SOCIAL SECURITY ADMINISTRATION

[Docket No. SSA-2006-0077]

Work Incentives Planning and Assistance (WIPA) Program Pre-Application Teleconference Seminars

AGENCY: Social Security Administration (SSA).

ACTION: Notice of Teleconferences.

DATES: October 26, 2006

Time: 1 p.m. (Eastern Time) duration two hours.

Call-in telephone number: (toll free) 877-922-4780.

Pass code: WIPA.

Leader: Debbie Morrison.

October 27, 2006

Time: 4 p.m. (Eastern Time) duration two hours.

Call-in telephone number: (toll free) 877-922-4780.

Pass code: WIPA.

Leader: Debbie Morrison.

SUPPLEMENTARY INFORMATION: Type of meeting: Informational pre-application teleconference seminars open to all potential applicants for the Work Incentives Planning and Assistance (WIPA) Program (formerly the Benefits Planning, Assistance and Outreach (BPAO) Program).

Purpose: SSA will hold informational pre-application teleconference seminars to solicit interest and encourage community-based organizations to apply for cooperative agreement awards. All interested applicants are invited to attend this call.

Section 1149(d) of the Social Security Act (as added by Section 121 of the Ticket to Work and Work Incentives Improvement Act of 1999, Public Law 106-170) required SSA to establish community based benefits planning and assistance in every State, the District of Columbia, Puerto Rico, Guam, the Northern Mariana Islands, American Samoa, and the Virgin Islands. As authorized by Ticket to Work and Work Incentives Improvement Act, SSA established a program of cooperative agreements (monetary awards) granted to community-based organizations. These programs were formerly called the Benefit Planning and Assistance programs (BPAO). The new name for this program is the Work Incentive Planning and Assistance (WIPA) Projects. The WIPA program is to provide all of SSA's beneficiaries with disabilities access to work incentives planning and assistance services. Section 407 of the Social Security Protection Act (Pub. L. 108-203) extended the authorization of this program through Fiscal Year 2009.

SSA released a competitive Request for Applications in May 2006 but did not receive sufficient qualifying proposals to provide full national coverage. In October 2006 SSA released a competitive Request for Applications to announce funding availability for new cooperative agreements awards for the Work Incentives Planning and Assistance (WIPA) Program, for these specific areas:

State of Alabama, the counties of Autauga, Baldwin, Barbour, Bullock, Butler, Choctaw, Clarke, Coffee, Conecuh, Covington, Crenshaw, Dale, Dallas, Elmore, Escambia, Geneva, Henry, Houston, Lee, Lowndes, Macon, Marengo, Mobile, Monroe, Montgomery, Pike, Russell, Washington, and Wilcox;

State of Indiana, the counties of Clark, Crawford, Davies, Dearborn, Dubois, Floyd, Gibson, Grant, Greene, Harrison, Hendricks, Jackson, Jefferson, Jennings, Knox, Lawrence, Martin, Monroe, Ohio, Orange, Parke, Perry, Pike, Posey, Ripley, Scott, Spencer, Sullivan, Switzerland, Vanderburgh, Vermillion, Vigo, Warrick, Washington, and White;

State of Kentucky, the counties of Bath, Bell, Bourbon, Boyd, Bracken, Breathitt, Carter, Clark, Clay, Elliott, Estill, Fleming, Floyd, Garrard, Greenup, Harlan, Harrison, Jackson, Johnson, Knott, Knox, Laurel, Lawrence, Lee, Leslie, Letcher, Lewis, Madison, Magoffin, Martin, Mason, McCreary, Menifee, Montgomery, Morgan, Nicholas, Owsley, Pendleton, Perry, Pike, Powell, Robertson, Rockcastle, Rowan, Whitley, and Wolfe;

State of Nevada, all counties;

State of New York, the counties of Albany, Columbia, Dutchess, Greene, Orange, Putnam, Rockland, Ulster, and Westchester;

State of Ohio, the counties of Ashtabula, Mahoning, Portage, Stark, Summit, and Trumbull;

Pacific territories of Guam, the Northern Mariana Islands, and American Samoa to be effective in calendar year 2007.

The schedule (including date, time and call-in number of each pre-application seminar as it becomes available) will also be posted at the following Internet site: http://www.socialsecurity.gov/work.

Agenda: SSA will use the seminars to provide guidance and technical assistance to interested parties as they prepare to submit their applications. There will be a presentation of information followed by an operator-assisted question and answer period. The agenda will be posted on the Internet at http://www.socialsecurity.gov/work one week before commencement of the seminars. The agenda can also be requested electronically or by fax upon request.

Contact Information: Anyone requiring additional information should contact SSA Project Officer, Debbie Morrison by calling (410) 965-9054, or

• Mail addressed to Social Security Administration, 6401 Security Blvd., Room 107 Altmeyer Building, Baltimore, MD 21235.

• Fax at (410) 966-1278.

• E-mail to debbie.morrison@ssa.gov.

Dated: October 10, 2006.
Martin H. Gerry,
Deputy Commissioner for, Disability and Income Security Program.

[FR Doc. 06-8730 Filed 10-16-06; 8:45 am]

BILLING CODE 4191-02-P